DEPARTMENT OF COMMERCE

International Trade Administration

[A-475-601]

Brass Sheet and Strip From Italy: Rescission of Antidumping Duty Administrative Review

AGENCY: Import Administration, International Trade Administration, Department of Commerce.

DATES: Effective Date: August 17, 2012.

FOR FURTHER INFORMATION CONTACT: Mahnaz Khan or Yasmin Nair, AD/CVD Operations, Office 1, Import Administration, International Trade Administration, U.S. Department of Commerce, 14th Street and Constitution Avenue NW., Washington, DC 20230; telephone: (202) 482-0914 or (202) 482-3183, respectively.

SUPPLEMENTARY INFORMATION:

Background

On March 1, 2012, the Department of Commerce (“Department”) published in the Federal Register the notice of opportunity to request an administrative review of the antidumping duty order on brass sheet and strip from Italy for the period of review, March 1, 2011, through February 29, 2012. See Antidumping or Countervailing Duty Order, Finding, or Suspended Investigation; Opportunity to Request Administrative Review, 77 FR 12559 (March 1, 2012). On April 2, 2012, GBC Metals, LLC, of Global Brass and Copper, Inc., dba Olin Brass, Heyco Metals, Inc., Aurubis Bufalo, Inc., PMX Industries, Inc., and Revere Copper Products, Inc. (collectively, “Petitioners”) timely requested that the Department conduct an administrative review of KME Italy SpA (“KME Italy”). Pursuant to this request and in accordance with 19 CFR 351.221(c)(1)(i), the Department published a notice initiating the administrative review of KME Italy. See Initiation of Antidumping and Countervailing Duty Administrative Reviews and Request for Revocation in Part, 77 FR 25401 (April 30, 2012). On July 26, 2012, Petitioners withdrew their request for an administrative review of KME Italy.

Rescission of Review

Pursuant to 19 CFR 351.213(d)(1), the Secretary will rescind an administrative review, in whole or in part, if the parties that requested a review withdraw the request within 90 days of the date of publication of the notice of initiation of the requested review. As noted above, Petitioners withdrew their request for review of KME Italy within 90 days of the date of publication of the notice of initiation. Moreover, no other interested party requested an administrative review of KME Italy. Therefore, in accordance with 19 CFR 351.213(d)(1), we are rescinding this review in its entirety.

Assessment

The Department will instruct U.S. Customs and Border Protection (“CBP”) to assess antidumping duties on all entries of brass sheet and strip from Italy. Antidumping duties shall be assessed at rates equal to the cash deposit of estimated antidumping duties required at the time of entry, or withdrawal from warehouse, for consumption, in accordance with 19 CFR 351.212(c)(1)(i). The Department intends to issue appropriate assessment instructions to CBP 15 days after the date of publication of this notice of rescission of administrative review.

Notification to Importers

This notice also serves as a final reminder to importers of their responsibility under 19 CFR 351.402(f) to file a certificate regarding the reimbursement of antidumping duties prior to liquidation of the relevant entries during this review period. Failure to comply with this requirement could result in the presumption that reimbursement of antidumping duties occurred and the subsequent increase in antidumping duties by the amount of antidumping duties reimbursed.

Notification Regarding Administrative Protective Order

This notice serves as a final reminder to parties subject to administrative protective order (“APO”) of their responsibility concerning the disposition of proprietary information disclosed under an APO in accordance with 19 CFR 351.305(a)(3). Timely written notification of the return/destruction of APO materials or conversion to judicial protective order is hereby requested. Failure to comply with the regulations and terms of an APO is a sanctionable violation.

This notice is issued and published in accordance with sections 751(a)(1) and 777(i)(1) of the Tariff Act of 1930, as amended, and 19 CFR 351.213(d)(4).

Dated: August 9, 2012.
Christian Marsh,
Deputy Assistant Secretary for Antidumping and Countervailing Duty Operations.

[FR Doc. 2012-20201 Filed 8-16-12; 8:45 am]

BILLING CODE 3510-DS-P